DEPARTMENT OF COMMERCE

International Trade Administration

[A-588-046]

Polychloroprene Rubber from Japan: Final Results of Sunset Review and Revocation of Finding

AGENCY: Import Administration, International Trade Administration, Department of Commerce.

SUMMARY: On July 9, 2010, the Department of Commerce (“the Department”) initiated the sunset review of the antidumping finding on polychloroprene rubber from Japan. Because the domestic interested parties did not participate in this sunset review, the Department is revoking this antidumping finding.

EFFECTIVE DATE: August 4, 2010

FOR FURTHER INFORMATION CONTACT: Martha Douthit, AD/CVD Operations, Import Administration, International Trade Administration, U.S. Department of Commerce, 14th Street and Constitution Avenue, NW, Washington, DC 20230; telephone: (202) 482-5050.

SUPPLEMENTARY INFORMATION: On December 6, 1973, the Department of the Treasury published in the Federal Register the antidumping finding on polychloroprene rubber from Japan. See Polychloroprene Rubber from Japan, 38 FR 33593 (December 6, 1973). On August 4, 2005, the Department published its most recent continuation of the finding. See Continuation of Antidumping Duty Order; Polychloroprene Rubber from Japan, 70 FR 44893 (August 4, 2005). On July 9, 2010, the Department initiated a sunset review of this finding. See Initiation of Five-year (“Sunset”) Review, 75 FR 39494 (July 9, 2010).

The domestic interested parties did not file a notice of intent to participate in this sunset review. As a result, in accordance with 19 CFR 351.218(d)(1)(iii)(A), the Department determined that no domestic interested party intends to participate in the sunset review and on July 29, 2010 we notified the International Trade Commission, in writing, that we intended to revoke this antidumping finding. See 19 CFR 351.218(d)(1)(iii)(B)(2).

Scope of the Finding:

Imports covered by the finding are shipments of polychloroprene rubber, an oil resistant synthetic rubber also known as polymerized chlorobutadiene or neoprene, currently classifiable under items 4002.41.00, 4002.49.00, 4003.00.00 of the Harmonized Tariff Schedule of the United States (“HTSUS”).¹ HTSUS item numbers are provided for convenience and customs purpose. The Department's written description of the scope remains dispositive.

¹ See Polychloroprene Rubber from Japan: Final Changed Circumstances Review and Determination to Revoke Finding in Part, 71 FR 57470 (September 29, 2006), in which the Department determined to revoke the antidumping finding with respect to the following products: (1) aqueous dispersions of polychloroprenes that are dipolymers of chloroprene and methacrylic acid, where the dispersion has a pH of 8 or lower (this category is limited to aqueous dispersions of these polymers and does not include aqueous dispersions of these polychloroprenes that contain comonomers other than methacrylic acid); (2) aqueous dispersions of polychloroprenes that are dipolymers of chloroprene and 2,3-dichlorobutadiene-1,3 modified with xanthogen disulfides, where the dispersion has a solids content of greater than 59 percent (this category is limited to aqueous dispersions of these polymers and does not include aqueous dispersions of polychloroprenes that contain comonomers other than 2,3-dichlorobutadiene-1,3); and (3) solid polychloroprenes that are dipolymers of chloroprene and 2,3-dichlorobutadiene-1,3 having a 2,3-dichlorobutadiene-1,3 content of 15 percent or greater (this category is limited to polychloroprenes in solid form and does not include aqueous dispersions). See also Notice of Scope Rulings, 74 FR 14521 (March 31, 2009).

Determination to Revoke:

Pursuant to section 751(c)(3)(A) of the Tariff Act of 1930, as amended (“the Act”) and 19 CFR 351.218(d)(1)(iii)(B)(3), if no domestic interested party files a notice of intent to participate, the Department shall, within 90 days after the initiation of the review, issue a final determination revoking the finding. Because the domestic interested parties did not file a notice of intent to participate in this sunset review, the Department finds that no domestic interested party is participating in this sunset review. Therefore, consistent with 19 CFR 351.222(i)(1)(i) and section 751(c)(3)(A) of the Act, we are revoking this antidumping finding. The effective date of revocation is August 4, 2010, the fifth anniversary of the date of publication in the Federal Register of the most recent notice of continuation of this antidumping duty finding.

Termination of Suspension of Liquidation:

Pursuant to section 751(c)(3)(A) of the Act and 19 CFR 351.222(i)(2)(i), the Department intends to issue instructions to U.S. Customs and Border Protection, to terminate the suspension of liquidation of the merchandise subject to this finding entered, or withdrawn from warehouse, on or after August 4, 2010. Entries of subject merchandise prior to the effective date of revocation will continue to be subject to suspension of liquidation and antidumping duty deposit requirements. The Department will complete any pending administrative reviews of this finding and will conduct administrative reviews of subject merchandise entered prior to the effective date of revocation in response to appropriately filed requests of review.

This five-year (sunset) review and notice are published in accordance with sections 751(c) and 777(i)(1) of the Act.

Dated: August 17, 2010.
Ronald K. Lorentzen,
Deputy Assistant Secretary for Import Administration.

[FR Doc. 2010-21029 Filed 8-23-10; 8:45 am]

BILLING CODE 3510-DS-S